NUCLEAR REGULATORY COMMISSION

Sunshine Act Meeting

AGENCY HOLDING THE MEETING: Nuclear Regulatory Commission.

DATES: Weeks of January 17, 24, 31, and February 7, 2000.

PLACE: Commissioners' Conference Room, 11555 Rockville Pike, Rockville, Maryland.

STATUS: Public and Closed.

MATTERS TO BE CONSIDERED:

Week of January 17

Wednesday, January 19

8:30 a.m.—Discussion of Intragovernmental Issues (Closed—Ex. 9)

9:30 a.m.—Discussion of Management Issues (Closed-Ex. 2 & 6)

Thursday, January 20

9:55 a.m.—Affirmation Session (Public Meeting) (if needed)

10:00 a.m.—Briefing on Status of CIO Programs, Performance, and Plans (Public Meeting) (Contact: Donnie Grimsley, 301-415-8702)

Friday, January 21

9:00 a.m.—Briefing on Native American, State of Nevada, and Affected Units of Local Governments Representatives Responses to DOE's Draft Environmental Impact Statement (EIS) for a Proposed HLW Geologic Repository (Public Meeting)

Week of January 24 Tentative

Tuesday, January 25

9:00 a.m.—Briefing on NRC Staff's Response to DOE's Draft Environmental Impact Statement (EIS) for a Proposed HLW Geologic Repository (Public Meeting)

Wednesday, January 26

9:25 a.m.—Affirmation Session (Public Meeting) (if needed)

10:00 a.m.—Briefing on Status of NMSS Programs, Performance, and Plans (Public Meeting) (Contact: Claudia Seelig, 301-415-7243)

Week of January 31-Tentative

There are no meetings scheduled for the Week of January 31.

Week of February 7—Tentative

Wednesday, February 9

10:00 a.m.—Briefing on Status of Research Programs, Performance, and Plans (Including Status of Thermo-Hydraulics) (Public Meeting)

Thursday, February 10

9:25 a.m.—Affirmation Session (Public Meeting) (if needed)

9:30 a.m.—Briefing on Status of CFO Programs, Performance, and Plans (Public Meeting)

Friday, February 11

9:30 a.m.—Briefing on Status of Spent Fuel Projects (Public Meeting)

The schedule for commission meetings is subject to change on short notice. to verify the status of meetings call (recording) (301) 415-1292. Contact person for more information: Bill Hill (301) 415-1661.

* * * * *

ADDITIONAL INFORMATION: By a vote of 5-0 on January 10, the Commission determined pursuant to U.S.C. 552b(e) and § 9.107(a) of the Commission's rules that “Discussion of Management Issues (Closed—Ex. 2)” be held on January 10, and on less than one week's notice to the public.

* * * * *

The NRC Commission Meeting Schedule can be found on the Internet at: http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: January 14, 2000.
William M. Hill, Jr.,
SECY Tracking Officer, Office of the Secretary.

[FR Doc. 00-1339 Filed 1-14-00; 2:16 pm]

BILLING CODE 7590-01-M